NUCLEAR REGULATORY COMMISSION

[NRC-2009-0263]

Draft Regulatory Guide: Reissuance and Availability

AGENCY: Nuclear Regulatory Commission.

ACTION: Notice of Reissuance and Availability of Draft Regulatory Guide (DG)-1229.

FOR FURTHER INFORMATION CONTACT: Aaron Szabo, U.S. Nuclear Regulatory Commission, Washington, DC 20555-0001, telephone: 301-415-1985 or e-mail: Aaron.Szabo@nrc.gov.

SUMMARY: DG-1229 was previously issued for public comment in June 2009, and the Commission approved RG 1.159 subject to changes which are spelled out in a Staff Requirements Memorandum dated October 25, 2010 (ML1029805650). Because of the nature of the changes, the draft guide is being reissued for comment, and during that period, NRR will hold a public workshop to solicit comments from stakeholders and other relevant experts on the use of the net present value method for parent guarantees in license transfer cases.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled, “Assuring the Availability of Funds for Decommissioning Nuclear Reactors,” is temporarily identified by its task number, DG-1229, which should be mentioned in all related correspondence. DG-1229 is proposed Revision 2 of Regulatory Guide 1.159, dated October 2003.

The general requirements for applications for license termination and decommissioning nuclear power, research, and test reactors appear in Title 10, Part 50, “Domestic Licensing of Production and Utilization Facilities,” of the Code of Federal Regulations (10 CFR Part 50). Subsequent to the original publication of this regulatory guide in August 1990, the NRC promulgated amendments to 10 CFR Part 50 in the Federal Register on September 22, 1998 (63 FR 50465). Various amendments modified 10 CFR 50.33(k), 10 CFR 50.75, “Reporting and Recordkeeping for Decommissioning Planning,” and 10 CFR 50.82(b), which require operating license applicants and existing licensees to submit information on how reasonable assurance will be provided that funds are available to decommission the facility. The NRC promulgated additional amendments to 10 CFR 50.75 on December 24, 2002, in the Federal Register (67 FR 78332). As amended, 10 CFR 50.75 establishes requirements for indicating how this assurance will be provided; namely, the amount of funds that must be provided, including updates; the methods to be used for assuring funds; and provisions contained in trust agreements for safeguarding decommissioning funds. This document provides guidance to applicants and licensees of nuclear power, research, and test reactors concerning methods acceptable to the staff of the NRC for complying with requirements in the rules regarding the amount of funds for decommissioning. It also provides guidance on the content and form of the financial assurance mechanisms in those rule amendments.

II. Further Information

The NRC staff is soliciting comments on DG-1229. Comments may be accompanied by relevant information or supporting data and should mention DG-1229 in the subject line. Comments submitted in writing or in electronic form will be made available to the public in their entirety through the NRC's Agencywide Documents Access and Management System (ADAMS).

ADDRESSES: You may submit comments by any one of the following methods. Please include Docket ID NRC-2009-0263 in the subject line of your comments. Comments submitted in writing or in electronic form will be posted on the NRC website and on the Federal rulemaking website Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Website: Go to http://www.regulations.gov and search for documents filed under Docket ID NRC-2009-0263. Address questions about NRC dockets to Carol Gallagher 301-492-3668; e-mail Carol.Gallagher@nrc.gov.

Mail comments to: Cindy K. Bladey, Chief, Rules, Announcements, and Directives Branch (RADB), Office of Administration, Mail Stop: TWB-05-B01M, U.S. Nuclear Regulatory Commission, Washington, DC 20555-0001, or by fax to RDB at 301-492-3446.

You can access publicly available documents related to this notice using the following methods:

NRC's Public Document Room (PDR): The public may examine and copy for a fee publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Regulatory Analysis is available electronically under ADAMS Accession Number ML103350166.

Comments would be most helpful if received by March 14, 2011. Comments received after that date will be considered if it is practical to do so, but the NRC is able to ensure consideration only for comments received on or before this date. Although a time limit is given, comments and suggestions in connection with items for inclusion in guides currently being developed or improvements in all published guides are encouraged at any time.

Electronic copies of DG-1229 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML103350136.

Regulatory guides are not copyrighted, and Commission approval is not required to reproduce them.

Dated at Rockville, Maryland, this 6th day of January, 2011.
For the Nuclear Regulatory Commission.
Harriet Karagiannis,
Acting Chief, Regulatory Guide, Development Branch, Division of Engineering, Office of Nuclear Regulatory Research.

[FR Doc. 2011-611 Filed 1-12-11; 8:45 am]

BILLING CODE 7590-01-P